ENVIRONMENTAL PROTECTION AGENCY

[EPA-R10-OAR-2013-0788; FRL-9914-65-OEI]

Information Collection Request Submitted to OMB for Review and Approval; Comment Request; Federal Implementation Plans Under the Clean Air Act for Indian Reservations in Idaho, Oregon, and Washington (Renewal)

AGENCY: Environmental Protection Agency (EPA).

ACTION: Notice.

SUMMARY: The Environmental Protection Agency has submitted an information collection request (ICR), Federal Implementation Plans under the Clean Air Act for Indian Reservations in Idaho, Oregon, and Washington (EPA ICR No. 2020.06, OMB Control No. 2060-0558) to the Office of Management and Budget (OMB) for review and approval in accordance with the Paperwork Reduction Act (44 U.S.C. 3501 et seq.). This is a proposed extension of the ICR, which is currently approved through August 31, 2014. Public comments were previously requested via the Federal Register (79 FR 14704) on March 17, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 4, 2014.

ADDRESSES: Submit your comments, identified by Docket ID No. EPA-R10-OAR-2013-0788, to (1) EPA online using www.regulations.gov (our preferred method), by email to koprowski.paul@epa.gov, or by mail to: Paul Koprowski, Environmental Protection Agency Region 10, Office of Air, Waste and Toxics, Oregon Operations Office, 805 SW Broadway, Suite 500, Portland, OR 97205; and (2) OMB by mail to: Office of Information and Regulatory Affairs, Office of Management and Budget (OMB), Attention: Desk Officer for EPA, 725 17th Street NW., Washington, DC 20503.

EPA's policy is that all comments received will be included in the public docket without change including any personal information provided, unless the comment includes profanity, threats, information claimed to be Confidential Business Information (CBI) or other information whose disclosure is restricted by statute.

FOR FURTHER INFORMATION CONTACT: Paul Koprowski, Environmental Protection Agency Region 10, Office of Air, Waste and Toxics, Oregon Operations Office, 805 SW Broadway, Suite 500, Portland, OR, 97205; telephone number: (503) 326-6363; fax number: 503-326-3399; email address: koprowski.paul@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the fugitive particulate matter rule in § 49.126, the woodwaste burner rule in § 49.127; the rule for limiting sulfur in fuels in § 49.130; the rule for open burning in § 49.131; the rules for general open burning permits, agricultural burning permits, and forestry and silvicultural burning permits in §§ 49.132, 49.133, and 49.134; the registration rule in § 49.138; and the rule for non-Title V operating permits in § 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Respondents/Affected Entities: Entities potentially affected by this action include owners and operators of emission sources in all industry groups and tribal, federal, and local governments, located on the identified Indian reservations.

Obligation to Respond: Mandatory.

Estimated Number of Respondents: 1,681.

Frequency of Response: Annual and on occasion.

Estimated Total Annual Hour Burden: 5,069. Burden is defined at 5 CFR 1320.03(b).

Estimated Total Annual Cost: $330,752. This includes an estimated labor cost of $330,752, and no capital investment and operation and maintenance costs.

Changes in the estimates: There is a decrease of 1,176 hours in the total estimated burden currently identified in the OMB Inventory of Approved ICR Burdens. This decrease is the result of a number of changes. It reflects adjustments to the burden estimates for this collection using consultation input, historical data, and experience with implementing the FARR. Some components of the burden estimates increased and some components decreased. In most cases, the burden estimates decreased based on input from the source consultations. For some provisions the estimates of the number of respondents decreased. Some estimates changed based on additional information EPA has gained through implementing the rules.

Spencer W. Clark,
Acting Director, Collection Strategies Division.

[FR Doc. 2014-18467 Filed 8-4-14; 8:45 am]

BILLING CODE 6560-50-P